DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Zhong Bin Deng, Medical College of Georgia: Based on the report of an investigation conducted by the Medical College of Georgia (MCG), the report of the MCG Adjudication Subcommittee, additional analysis conducted by ORI in its oversight review, and the Respondent's written and oral admissions and expressed remorse, ORI found that Dr. Zhong Bin Deng, former postdoctoral fellow at MCG in Augusta, GA, engaged in scientific misconduct in research supported by National Institute of Allergy and Infectious Diseases (NIAID), National Institutes of Health (NIH), grant 2 P01 AI42288.

ORI found that Dr. Deng engaged in scientific/research misconduct by falsifying research results reported in a paper published in Nature Medicine.¹ Specifically:

¹ Mi, Q.-S., Deng, Z.-B., Joshi, S.K., Wang, Z.-Z., Zhou, L., Eckenrode, S., Joshi, R., Ly, D., Yi, B., Delovitch, D.L., & She, J.-X. “The autoimmune regulator 9Aire) controls iNKT cell development and maturation.” Nature Medicine 12:624-626, 2006; hereafter referred to as the “Nature Medicine paper.”

• Figures 1 and 2 in the Nature Medicine paper purportedly show that the autoimmune regulator Arie controls iNKT cell development and maturation. In Figure 1(a), the Respondent falsified the Aire +/+ (thymus and liver) flow cytometry plots by substituting Aire +/− (thymus and liver) flow cytometry plots that were altered to disguise their origins and falsified the Aire −/− (bone marrow) flow cytometry plot by substituting the Aire +/− (bone marrow) flow cytometry plot, also altered to disguise its origin.

• In supplementary Figure 2 of the Nature Medicine paper, the Respondent falsified flow cytometry plots as follows: (1) in row 1, the Aire −/− (thymus) flow cytometry plot [plot 2] and the Aire +/+ → −/− (thymus) flow cytometry plot [plot 3] are duplicates, thus one of the plots is falsified; (2) in row 2, the Aire −/− (spleen) flow cytometry plot [plot 2] and the Aire −/− → +/+ flow cytometry plot [plot 5] are duplicates, thus one of the plots is falsified; (3) in row 3, the Aire −/− (liver) flow cytometry plot [plot 2] and the Aire +/+ → −/− (liver) flow cytometry plot [plot 3] are duplicates, thus one of the plots is falsified; and (4) in row 4, the Aire −/− (thymus) flow cytometry plot [plot 2] and the Aire +/+ → +/+ flow cytometry plot [plot 4] are duplicates, thus one of the plots is falsified.

Dr. Deng has entered into a Voluntary Settlement Agreement in which he has voluntarily agreed, for a period of two (2) years, beginning on October 2, 2009:

(1) That any institution that submits an application for PHS support for a research project on which the Respondent's participation is proposed or that uses him in any capacity on PHS-supported research or that submits a report of PHS-funded research in which he is involved must concurrently submit a plan for supervision of his duties to ORI; the supervisory plan must be designed to ensure the integrity of his research contribution; respondent agreed that he will not participate in any PHS-supported research until such a supervisory plan is approved by ORI;

(2) That any institution employing him submits, in conjunction with each application for PHS funds, or report, manuscript, or abstract involving PHS funded research in which the Respondent is involved, a certification to ORI that the data provided by the Respondent are based on actual experiments or are otherwise legitimately derived and that the data, procedures, and methodology are accurately reported in the application or report; and

(3) To exclude himself from serving in any advisory capacity to the U.S. Public Health Service (PHS), including but not limited to service on any PHS advisory committee, board, and/or peer review committee, or as a consultant.

FOR FURTHER INFORMATION CONTACT: Director, Division of Investigative Oversight, Office of Research Integrity, 1101 Wootton Parkway, Suite 750, Rockville, MD 20852. (240) 453-8800.

John Dahlberg,
Director, Division of Investigative Oversight, Office of Research Integrity.

[FR Doc. E9-26007 Filed 10-28-09; 8:45 am]

BILLING CODE 4150-31-P